DEPARTMENT OF THE TREASURY

Internal Revenue Service

26 CFR Part 702

[REG-149475-07]

RIN 1545-BH36

Payments From the Presidential Primary Matching Payment Account

AGENCY: Internal Revenue Service (IRS), Treasury.

ACTION: Notice of proposed rulemaking by cross-reference to temporary regulations.

SUMMARY: In the Rules and Regulations section of this issue of the Federal Register, the IRS is issuing temporary regulations under Part 702, Presidential Primary Matching Payment Account, of title 26 of the CFR, relating to the financing of presidential primary campaigns. The temporary regulations amend Treasury procedures for making payments from the Presidential Primary Matching Payment Account (Primary Account) to eligible primary candidates. The text of those regulations also serves as the text for these proposed regulations.

DATES: Written or electronic comments and requests for a public hearing must be received by May 14, 2008.

ADDRESSES: Send submissions to: CC:PA:LPD:PR (REG-149475-07), room 5203, Internal Revenue Service, PO Box 7604, Ben Franklin Station, Washington, DC 20044. Submissions may be hand delivered Monday through Friday between the hours of 8 a.m. and 4 p.m. to CC:PA:LPD:PR (REG-149475-07), Courier's Desk, Internal Revenue Service, 1111 Constitution Avenue, NW., Washington, DC. Alternatively, taxpayers may submit comments electronically via the Federal eRulemaking Portal at www.regulations.gov (IRS REG-149475-07).

FOR FURTHER INFORMATION CONTACT: Concerning the proposed regulations, Karla M. Meola, (202) 622-4930 (not a toll-free number); concerning the submission of comments and/or to request a public hearing, Oluwafunmilayo Taylor of the Publications and Regulation Branch at (202) 622-7180 (not a toll-free number).

SUPPLEMENTARY INFORMATION:

Background and Explanation of Provisions

Temporary regulations in the Rules and Regulations section of this issue of the Federal Register amend 26 CFR part 702 relating to section 9037 of the Internal Revenue Code (Code). The temporary regulations authorize the Treasury Department to devise procedures that ensure payments from the Primary Account are made promptly to eligible primary candidates. The text of the temporary regulations also serves as the text for these proposed regulations. The preamble to the temporary regulations explains the amendment.

Special Analyses

It has been determined that this notice of proposed rulemaking is not a significant regulatory action as defined in Executive Order 12866. Therefore, a regulatory assessment is not required. It has also been determined that section 553(b) of the Administrative Procedure Act (5 U.S.C. chapter 5) does not apply to these regulations, and because the regulation does not impose a collection of information on small entities, the Regulatory Flexibility Act (5 U.S.C. chapter 6) does not apply. Pursuant to section 7805(f) of the Code, this regulation has been submitted to the Chief Counsel for Advocacy of the Small Business Administration for comment on its impact on small business.

Comments and Requests for a Public Hearing

Before these proposed regulations are adopted as final regulations, consideration will be given to any written (a signed original and eight (8) copies) or electronic comments that are submitted timely to the IRS. The IRS and Treasury Department specifically request comments on the clarity of the proposed rules and how they can be made easier to understand. All comments will be available for public inspection and copying. A public hearing will be scheduled if requested in writing by any person that timely submits written comments. If a public hearing is scheduled, notice of the date, time, and place for the public hearing will be published in the Federal Register.

Drafting Information

The principal author of these regulations is Karla M. Meola, Office of the Associate Chief Counsel (Income Tax and Accounting), IRS. However, other personnel from the IRS and Treasury Department participated in their development.

List of Subjects in 26 CFR Part 702

Campaign Funds.

Proposed Amendments to the Regulations.

Accordingly, 26 CFR part 702 is proposed to be amended as follows:

PART 702—PRESIDENTIAL PRIMARY MATCHING PAYMENT ACCOUNT

Paragraph 1. The authority citation for part 702 continues to read in part as follows:

Authority: 26 U.S.C. 7805 * * *

Par. 2. Section 702.9037-1 is revised to read as follows:

§ 702.9037-1 Transfer of amounts to the Presidential Primary Matching Payment Account.

[The text of the proposed § 702.9037-1 is the same as the text of § 702.9037-1T(a) through (b)(1) published elsewhere in this issue of the Federal Register.]

Par. 3. Section 702.9037-2 is revised to read as follows:

§ 702.9037-2 Payments from the Presidential Primary Matching Payment Account.

[The text of proposed § 702.9037-2 is the same as the text of § 702.9037-2T(a) through (c)(1) published elsewhere in this issue of the Federal Register.]

Linda E. Stiff,
Deputy Commissioner for Services and Enforcement.

[FR Doc. 08-675 Filed 2-11-08; 12:09 pm]

BILLING CODE 4830-01-P